DEPARTMENT OF COMMERCE

National Oceanic and Atmospheric Administration

RIN 0648-XG993

North Pacific Fishery Management Council; Public Meeting

AGENCY: National Marine Fisheries Service (NMFS), National Oceanic and Atmospheric Administration (NOAA), Commerce.

ACTION: Notice of public meeting.

SUMMARY: The North Pacific Fishery Management Council (Council) Social Science Planning Team will meet May 7, 2019 through May 9, 2019.

DATES: The meeting will be held on Tuesday May 7, 2019 through Thursday May 9, 2019, from 9 a.m. to 5 p.m. Alaska Daylight Time.

ADDRESSES: The meeting will be held at the Hilton Hotel in the Fireweed Room, 500 W 3rd Ave, Anchorage, AK 99501. Teleconference number is (907) 271-2896.

Council address: North Pacific Fishery Management Council, 605 W. 4th Ave., Suite 306, Anchorage, AK 99501-2252; telephone: (907) 271-2809.

FOR FURTHER INFORMATION CONTACT: Sarah Marrinan, Council staff; telephone: (907) 271-2809.

SUPPLEMENTARY INFORMATION:

Agenda

Tuesday, May 7, 2019 Through Thursday, May 9, 2019

The meeting agenda will include the following topics:

• Data Gap Analysis v3

• Economic Data Reports discussion paper and next steps

• Highlight new or underrepresented research published in the North Pacific relevant to the SSPT and fisheries management

• Qualitative information in fisheries management

• Update on Fishery Ecosystem Plan Local Knowledge and Climate Change action modules

The agenda is subject to change. More details on meeting topics and schedule will be posted at https://www.npfmc.org/committees/social-science-planning-team/.

Public Comment

Public comment letters will be accepted and should be submitted either electronically to meetings.npfmc.org or through the mail: North Pacific Fishery Management Council, 605 W 4th Ave., Suite 306, Anchorage, AK 99501-2252. In-person oral public testimony will be accepted at the discretion of the chair.

Special Accommodations

These meetings are physically accessible to people with disabilities. Requests for sign language interpretation or other auxiliary aids should be directed to Shannon Gleason at (907) 271-2809 at least 7 working days prior to the meeting date.

Dated: April 19, 2019.
Tracey L. Thompson,
Acting Deputy Director, Office of Sustainable Fisheries, National Marine Fisheries Service.

[FR Doc. 2019-08297 Filed 4-23-19; 8:45 am]

BILLING CODE 3510-22-P